ENVIRONMENTAL PROTECTION AGENCY

[ER-FRL-6616-4]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-L65371-AK Rating EO2, Cholmondeley Timber Sales, Implementation, Harvesting Timber, Tongass Forest Plan, Tongass National Forest, Craig Ranger District, West of Ketchikan and South of Prince of Wales Island, AK.

Summary: EPA expressed environmental objections to the preferred alternative, no. 5, (as well as no. 4) which would likely violate State of Alaska Water Quality Standard (WQSs) (turbidity and sediment criteria and the Antidegradation Policy) and not comply with Alaska Drinking Water Regulations (DWRs). The DEIS also does not fully disclose applicable WQSs and DWRs or describe an adaptive management strategy that would ensure the WQSs and DWRs would be met with project implementation. We recommended that the FEIS identify a preferred alternative that meets WQSs and DWRs and include data and analyses supporting this outcome.

ERP No. D-BLM-L65371-OR Rating EC2, Rogue National Wild and Scenic River Hellgate Recreation Area (Applegate River to Grave Creek) Management Plan, Implementation, Bedford District, Josephine County, OR.

Summary: EPA expressed environmental concerns with the preferred alternative, which could potentially increase recreational use on the river in areas where use is already high. EPA requested the selection of an alternative which would reduce use levels, require no new facilities, manage visitor use and limit commercial outfitters.

ERP No. D-COE-K39065-CA Rating LO, Guadalupe Creek Restoration Project, Restore Riparian Vegetation and Native Anadromous Fish Habitat, From Almaden Expressway to Masson Dam, Implementation, Guadalupe River, Santa Clara County, CA.

Summary: EPA expressed a lack of objections with the proposed project but requested clarification of several questions in the Final EIS, including the applicability of the Clean Water Act Phase II stormwater rule to the proposed project.

ERP No. D-DOE-E06019-SC Rating EC2, Savannah River Site, High-Level Waste Tank Closure (DOE/EIS-0303D), Implementation, Industrial Wastewater Closure Plan for the F and H-Area High-Level Waste Tank Systems, Aiken County, SC.

Summary: EPA has environmental concerns about the project, and needs more information to fully assess the impacts. In particular, clarification of potential impacts, tank closure procedures, and schedule for tank closure warrant further discussion in the Final EIS.

ERP No. D-DOE-E09807-TN Rating EC2, Programmatic EIS—Oak Ridge Y-12 Plant Mission, Processing and Storage Highly Enriched Uranium, U.S. Nuclear Weapons Stockpile, Anderson County, TN.

Summary: EPA has concerns about potential impacts of the proposed project and requests more detail in the final EIS regarding environmental justice, wetland impacts, and cultural resource issues.

ERP No. D-IBR-L36114-WA Rating EO2, Keechelus Dam Project, Safety of Dams Modification, Implementation, COE Section 404 Permit, Yakima, Kittitas, Benton, and Klickitat Counties, WA.

Summary: EPA expressed environmental objections due to a lack of dam reconstruction alternatives that provide for fish passage, potential effects of late successional habitat and wildlife corridors, the lack of an adequate environmental justice analysis, lack of evidence that government-to-government consultations with affected Tribal governments have been conducted, and concerns with the impact analysis. EPA recommended that the cumulative effects analysis be expanded.

ERP No. D-MMS-E02011-00 Rating EC2, Eastern Planning Area Outer Continental Shelf Oil and Gas Lease Sale 181 (December 2001), Gulf of Mexico, Offshore Marine Environment and Coastal Counties/Parishes of LA, MI, AL and northwestern FL.

Summary: EPA expressed concerns regarding deficiencies in lease stipulations pertaining to live bottom habitat protection and spill response, in addition, EPA recommended splitting the proposed lease sale area into a shallow and a deep area and leasing in two phases.

ERP No. D-NOA-K91009-00 Rating LO, Coral Reef Ecosystems of the Western Pacific Region, Fishery Management Plan, Including Amendments to Four Existing (FMPs), Amendment 7—Bottomfish and Seamount Groundfish Fisheries, Amendment 11—Crustaceans Fisheries; Amendment 5—Precious Corals Fisheries and Amendment 10—Pelagics Fisheries, HI, GU and AS.

Summary: EPA was pleased with the comprehensive, ecosystem-level approach to address habitat and species protection issues in the proposed Fishery Management Plan (FMP) for the Coral Reef Ecosystem of the Western Pacific Region. EPA encourages NMFS and the Council to continue integration of this planning effort with ongoing updates to related Western Pacific FMPs, and to fully address social and economic impacts from fishery displacement.

ERP No. D-NPS-K61152-CA Rating EC2, Santa Monica Mountains National Recreation Area General Management Plan, Implementation, Los Angeles County, CA.

Summary: EPA expressed concerns regarding the adequacy of the air quality analysis. EPA requested analysis to substantiate the claim that air quality issues can be dismissed from further consideration by quantifying the vehicle trips associated with current visitation of the SMMNRA and the air quality impacts of those trips.

ERP No. D-NRC-E06020-GA Rating EC2, Generic EIS—Edwin I. Hatch Nuclear Plant, Unit 1 and 2, License Renewal of Nuclear Plants, Supplement 4 to NUREG-1437, Altamaha River, Appling County, GA.

Summary: EPA has environmental concerns about the project, and needs more information to fully assess the impacts. In particular, environmental justice, clarification of potential impacts, and on-site groundwater wells warrant further discussion on the Final EIS.

ERP No. DA-NRC-A00164-00 Rating LO, GENERIC—License Renewal of Nuclear Plants, Arkansas Nuclear One, Unit 1, COE Section 10 and 404 Permits, Pope County, AR (NUREG-1437).

Summary: EPA had no objection to the proposed action.

ERP No. DS-IBR-K39057-CA Rating LO, San Joaquin River Agreement Project, Updated and New Information, The Acquisition of Additional Water for Meeting the San Joaquin River Agreement Flow Objectives, 2001-2010, Vernalis Adaptive Management Plan (VAMP), Mariposa, Merced, San Joaquin and Stanislaus Counties, CA.

Summary: EPA supports the objective of the Vernalis Adaptive Management Plan (VAMP), and recognizes the potential benefits of providing additional water as proposed in the Draft SEIS. EPA recommends that Reclamation provide more detail in the Final SEIS on the cumulative effects and energy impacts of acquiring this additional water for the VAMP.

Final EISs

ERP No. F-COE-F39036-IL Hunter Lake New Supplemental Water Supply Reservoir, Construction, City of Springfield Application for Permit, Sangamon County, IL.

Summary: EPA's concerns regarding purpose and need, alternatives analysis, and social-economics were satisfied by the Final EIS. However, EPA continued to have objections due to concerns with wetland delineation and mitigation.

ERP No. F-IBR-K28019-CA East Bay Municipal Utility District, Supplemental Water Supply Project, American River Division of the Central Valley Project (CVP), Sacramento County, CA.

Summary: EPA continues to have concerns regarding the proposed alternatives, source water quality, and consistency with proposed Central Valley Project Improvement Act (CVPIA) and CALFED actions.

ERP No. F-IBR-K39062-00 Colorado River Interim Surplus Criteria, To Determine Water Surplus for use within the States of Arizona, California and Nevada (from 2001 through 2015), Colorado River Basin, AZ, CA and NV.

Summary: EPA remains concerned with the potential impacts of interim surplus criteria on perchlorate and the probability of more frequent and higher magnitude water shortages to other users of Lower Colorado River water. EPA requested that Reclamation continue to work with EPA and the Nevada Division of Environmental Protection on addressing prechlorate and to provide additional information in the Record of Decision on potential reparation/forbearance agreements among the Lower Basin states.

ERP No. F-NPS-G65075-LA Cane River Creole National Historical Park, General Management Plan, Natchitoches Parish, LA.

Summary: EPA had no further comments on the FEIS.

ERP No. F-TVA-A09830-00 Adoption—Disposition of Surplus Highly Enriched Uranium, TVA proposes to obtain 33 Metric Tons of Highly Enriched Uranium (HEU) to blend down to Low Enriched Uranium (LEU) and Fabricated to Fuel for use in Nuclear Reactors at Brown Ferry Nuclear Plant.

Summary: EPA expressed lack of objections with TVA's adoption of DOE's EIS. EPA had no concerns with DOE's final EIS, and TVA proposes to follow the same actions described in the DOE EIS.

Dated: March 13, 2001.
Joseph C. Montgomery,
Director, NEPA Compliance Division, Office of Federal Activities.

[FR Doc. 01-6603 Filed 3-15-01; 8:45 am]

BILLING CODE 6560-50-P